DEPARTMENT OF THE INTERIOR

Fish and Wildlife Service

50 CFR Parts 32 and 71

[Docket No. FWS-HQ-NWRS-2025-0031; FXRS12610900000-256-FF09R20000]

RIN 1018-BI01

National Wildlife Refuge System; 2025-2026 Station-Specific Hunting and Sport Fishing Regulations

AGENCY: Fish and Wildlife Service, Interior.

ACTION: Proposed rule.

SUMMARY: We, the U.S. Fish and Wildlife Service (Service), propose to open or expand hunting or sport fishing opportunities on 16 National Wildlife Refuge System (NWRS) stations and 1 National Fish Hatchery System (NFHS) station. This includes inaugural hunting opportunities at Southern Maryland Woodlands National Wildlife Refuge (NWR), the newest addition to the NWRS, and the formal opening of hunting opportunities at Grasslands Wildlife Management Area (WMA), as well as inaugural sport fishing at North Attleboro National Fish Hatchery (NFH). These actions will open or expand 42 opportunities for hunting and fishing across more than 87,000 acres of Service lands and waters. In addition, at the request of the State of Minnesota and the White Earth Nation, Tamarac NWR proposes to end an experimental 5-day early teal hunt where the refuge overlaps with Tribal land to ensure safety for wild rice harvesting and to align with State regulations. We also propose to make administrative changes to existing station-specific regulations to improve the clarity and accuracy of regulations, reduce the regulatory burden on the public, and comply with a Presidential mandate for plain-language standards.

DATES: We will accept comments received or postmarked on or before June 30, 2025.

Information collection requirements: If you wish to comment on the information collection requirements in this proposal, alongside proposed revisions and additions to the Code of Federal Regulations (CFR), please note that the Office of Management and Budget (OMB) is required to make a decision concerning the collection of information contained in this proposal between 30 and 60 days after the date of publication in the Federal Register. Therefore, comments should be submitted to the Service Information Collection Clearance Officer, U.S. Fish and Wildlife Service, (see “Information collection requirements” below under ADDRESSES) by July 15, 2025.

ADDRESSES:

Written comments: You may submit comments by one of the following methods:

• Electronically: Go to the Federal eRulemaking Portal: https://www.regulations.gov. In the Search box, type in FWS-HQ-NWRS-2025-0031, which is the docket number for these proposed revisions and additions to the CFR. Then, click on the Search button. On the resulting screen, find the correct document and submit a comment by clicking on “Comment.”

• By hard copy: Submit by U.S. mail or hand delivery: Public Comments Processing, Attn: FWS-HQ-NWRS-2025-0031, U.S. Fish and Wildlife Service, 5275 Leesburg Pike, MS: PRB (JAO/3W), Falls Church, VA 22041-3803.

We will not accept email or faxes. We will post all comments on https://www.regulations.gov. This generally means that we will post any personal information you provide us (see Request for Comments, below, for more information).

Supporting documents: For information on a specific refuge's or hatchery's public use program and the conditions that apply to it, contact the respective regional office at the address or phone number given in Available Information for Specific Stations under SUPPLEMENTARY INFORMATION.

Information collection requirements: Send your comments on the information collection request by mail to the Service Information Collection Clearance Officer, U.S. Fish and Wildlife Service, by email to Info_Coll@fws.gov; or by mail to 5275 Leesburg Pike, MS: PRB (JAO/3W), Falls Church, VA 22041-3803. Please reference OMB Control Number 1018-0140 in the subject line of your comments.

FOR FURTHER INFORMATION CONTACT: Christian Myers, (571) 422-3595. Please see Docket No. FWS-HQ-NWRS-2025-0031 on https://www.regulations.gov for a document that summarizes these proposed revisions and additions to the CFR.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System (Refuge System) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Refuge System's mission.

Provisions governing hunting and sport fishing on refuges are in title 50 of the CFR at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate to meet these objectives. On other stations, we must supplement State regulations with more-restrictive Federal regulations to ensure that we meet our management responsibilities, as outlined under Statutory Authority, below. We issue station-specific hunting and sport fishing regulations when we open national wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (Recreation Act; 16 U.S.C. 460k-460k-4) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges or hatcheries to the lists of areas open to hunting and sport fishing in 50 CFR part 32 or 71, respectively. We ensure continued compliance by the development of comprehensive conservation plans and step-down management plans, and by annual review of hunting and sport fishing programs and regulations.

Proposed Amendments to Existing Regulations

Revisions and Additions to Hunting and Fishing Opportunities on NWRS Stations

This document proposes to codify in the CFR all the Service's hunting and/or sport fishing regulations that we would revise or add since the last time we amended these regulations (89 FR 88147; November 7, 2024) and that are applicable at Refuge System units previously opened to hunting and/or sport fishing. We propose this to better inform the general public of the regulations at each station, to increase understanding and compliance with these regulations, and to make enforcement of these regulations more efficient. The Service has strived to align with State hunting and fishing regulations; for example, modifications in 2019 removed or simplified thousands of regulations to reduce the regulatory burden on the public (84 FR 47641; September 10, 2019). The Service is committed to continuing to align with State regulations with respect to the use of ammunition and/or fishing tackle in future amendments. In addition to finding these regulations in 50 CFR parts 32 and 71, visitors to our stations may find them reiterated in literature distributed by each station or posted on signs.

Table 1—Proposed Changes for 2025-2026 Hunting/Sport Fishing Season
Station | State | Migratory bird hunting | Upland game hunting | Big game hunting | Sport fishing
Black Coulee NWR | Montana | O | Already Open | Already Open | Already Closed.
Bowdoin NWR | Montana | O | Already Open | Already Closed | Already Closed.
Buffalo Lake NWR | Texas | Already Open | Already Open | E | Already Closed.
Creedman Coulee NWR | Montana | O | Already Open | Already Open | Already Closed.
Eufaula NWR | Alabama | Already Open | E | Already Open | Already Open.
Grasslands WMA * | California | O | O | Already Closed | Already Closed.
Grays Lake NWR | Idaho | E | Already Closed | Already Closed | Already Closed.
Hewitt Lake NWR | Montana | O | Already Open | Already Open | Already Closed.
Laguna Atascosa NWR | Texas | Already Closed | Already Closed | E | Already Open.
Lake Thibadeau NWR | Montana | O | Already Open | Already Open | Already Closed.
Moosehorn NWR | Maine | Already Open | Already Open | O | Already Open.
North Attleboro NFH | Massachusetts | Already Closed | Already Closed | Already Closed | N.
Pocosin Lakes NWR | North Carolina | Already Open | Already Open | O | Already Open.
San Luis NWR | California | E | Already Open | Already Closed | Already Open.
Shiawassee NWR | Michigan | E | Already Open | Already Open | Already Open.
Southern Maryland Woodlands NWR | Maryland | Already Closed | Already Closed | N | Already Closed.
Tamarac NWR | Minnesota | PC | Already Open | Already Open | Already Open.
Willapa NWR | Washington | E | Already Open | E | Already Open.
Key:
N = New station opened for the first time.
O = Opening (New species and/or new activity on a station previously open to other activities).
E = Expansion (Station is already open to the activity: the proposed rule would add new lands/waters, modify areas open to hunting or fishing, extend season dates, add a targeted hunt, modify season dates, modify hunting hours, etc.).
PC = Partial closing (A portion of the acres and/or subset of the species are being closed to hunting).
* We consider the changes at Grasslands WMA to be formal openings, rather than opening hunting for the first time. This is because these formal openings reflect existing hunts on Grasslands WMA that were opened and administered under the hunt plan for San Luis NWR, an adjacent station within the same complex. These formal openings will result in a new opportunity by expanding snipe hunting to additional acres, but the openings are largely an administrative change intended to provide greater clarity to the hunting public. This is why, for Grasslands WMA's migratory bird and upland game hunting, we use the designation `O' rather than `N' in this table.

The changes for the 2025-2026 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

Through these openings and expansions, we are proposing to open or expand hunting or fishing on 87,626 acres within the National Wildlife Refuge System and the National Fish Hatchery System.

Refuge Name Change

On March 4, 2025, Executive Order (E.O.) 14229 renamed the Anahuac NWR to honor Jocelyn Nungaray. We are proposing a revision for the Jocelyn Nungaray National Wildlife Refuge that reflects the name change.

Fish Advisory

For health reasons, anglers should review and follow State-issued consumption advisories before enjoying recreational sport fishing opportunities on Service-managed waters. You can find information about current fish-consumption advisories on the internet at https://www.epa.gov/choose-fish-and-shellfish-wisely.

Request for Comments

You may submit comments and materials on these proposed revisions and additions to the CFR by one of the methods listed in ADDRESSES. We will not accept comments sent by email or fax or to an address not listed in ADDRESSES. We will not consider hand-delivered comments that we do not receive, or mailed comments that are not postmarked, by the date specified in DATES.

We will post your entire comment on https://www.regulations.gov. Before including personal identifying information in your comment, you should be aware that we may make your entire comment—including your personal identifying information—publicly available at any time. While you can ask us in your comment to withhold your personal identifying information from public review, we cannot guarantee that we will be able to do so. We will post all hardcopy comments on https://www.regulations.gov.

Required Determinations

Clarity of the Proposed Rule

We are required by E.O.s 12866 and 12988 and by the Presidential memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise our proposed revisions and additions to the CFR, your comments should be as specific as possible. For example, you should tell us the numbers of the sections or paragraphs that are unclearly written, which sections or sentences are too long, the sections where you feel lists or tables would be useful, etc.

Regulatory Planning and Review—E.O.s 12866 and 13563

E.O. 12866 provides that the Office of Information and Regulatory Affairs (OIRA) in the OMB will review all significant rules. OIRA has determined that these proposed revisions and additions to the CFR collectively are not significant.

E.O. 13563 reaffirms the principles of E.O. 12866 while calling for improvements in the Nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed these proposed revisions and additions to the CFR in a manner consistent with these requirements.

Regulatory Flexibility Act (5 U.S.C. 601 et seq.)

Under the Regulatory Flexibility Act (RFA; 5 U.S.C. 601 et seq.), as amended by the Small Business Regulatory Enforcement Fairness Act of 1996 (SBREFA; title II of Pub. L. 104-121, March 29, 1996), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the RFA to require Federal agencies to provide a statement of the factual basis for certifying that a rule will not have a significant economic impact on a substantial number of small entities. We certify that, if adopted as proposed, this proposed rule would not have a significant economic impact on a substantial number of small entities. The following discussion explains our rationale.

The proposed revisions and additions to the CFR would open or expand hunting or fishing on 17 stations. As a result, visitor use for wildlife-dependent recreation on these stations will change. If the stations establishing new programs were a pure addition to the current supply of those activities, it would mean an estimated maximum increase of 189 user days (one person per day participating in a recreational opportunity; see table 2). Because the participation trend is flat in these activities, this increase in supply will most likely be offset by other sites losing participants. Therefore, this is likely to be a substitute site for the activity and not necessarily an increase in participation rates for the activity.

Table 2—Estimated Maximum Change in Recreation Opportunities in 2025-2026
[2024 Dollars in thousands]
Station | Additional hunting days | Additional fishing days | Additional expenditures
Black Coulee NWR | 0 |  | $0
Bowdoin NWR | 0 |  | 0
Buffalo Lake NWR | 20 |  | 1
Creedman Coulee NWR | 0 |  | 0
Eufaula NWR | 0 |  | 0
Grasslands WMA | 0 |  | 0
Grays Lake NWR | 0 |  | 0
Hewitt Lake NWR | 0 |  | 0
Laguna Atascosa NWR | 0 |  | 0
Lake Thibadeau NWR | 0 |  | 0
Moosehorn NWR | 2 |  | <1
North Attleboro NFH |  | 156 | 5
Pocosin Lakes NWR | 7 |  | <1
San Luis NWR | 0 |  | 0
Shiawassee NWR | 2 |  | <1
Southern Maryland Woodlands NWR | 2 |  | <1
Willapa NWR | 0 |  | 0
Total | 33 | 156 | 6

To the extent visitors spend time and money in the area of the station that they would not have spent there anyway, they contribute new income to the regional economy and benefit local businesses. Due to the unavailability of site-specific expenditure data, we use the national estimates from the 2022 National Survey of Fishing, Hunting, and Wildlife Associated Recreation to identify expenditures for food and lodging, transportation, and other incidental expenses. Using the average expenditures for these categories with the maximum expected additional participation of the Refuge System yields approximately $6,000 in recreation-related expenditures (see table 2, above). By having ripple effects throughout the economy, these direct expenditures are only part of the economic impact of these recreational activities. Using a national impact multiplier for hunting activities (2.4) derived from the report “Hunting in America: An Economic Force for Conservation” and for fishing activities (2.3) derived from the report “Sportfishing in America” yields a total maximum economic impact of approximately $14,000 (2024 dollars) (Southwick Associates, Inc., 2024).

Since we know that most of the fishing and hunting occurs within 100 miles of a participant's residence, it is unlikely that most of this spending will be “new” money coming into a local economy; therefore, this spending will be offset with a decrease in some other sector of the local economy. The net gain to the local economies will be no more than $14,000 and likely less. Since 80 percent of the participants travel less than 100 miles to engage in hunting and fishing activities, their spending patterns will not add new money into the local economy, and, therefore, the real impact will be on the order of about $3,000 annually.

Small businesses within the retail trade industry (such as hotels, gas stations, taxidermy shops, bait-and-tackle shops, and similar businesses) may be affected by some increased or decreased station visitation. A large percentage of these retail trade establishments in the local communities around NWRs qualify as small businesses (see table 3, below). We expect that the incremental recreational changes will be scattered, and so we do not expect that the rule will have a significant economic effect on a substantial number of small entities in any region or nationally. As noted previously, we expect at most $14,000 to be spent in total in the stations' local economies. The maximum increase will be less than one-tenth of one percent for local retail trade spending (see table 3, below). Table 3 does not include entries for those stations for which we project no changes in recreation opportunities in 2025-2026; see table 2, above.

Table 3—Comparative Expenditures for Retail Trade Associated With Additional Station Visitation for 2025-2026
[Thousands, 2024 dollars]
Station & county(ies) | Retail trade in 2017 ¹ | Estimated maximum addition from new activities | Addition as % of total | Establishments in 2017 ¹ | Establishments with fewer than 10 employees in 2017
Buffalo Lake NWR:
Randall, TX | $2,340,561 | <$1 | <0.1 | 351 | 237
Moosehorn NWR:
Washington, ME | 516,503 | <1 | <0.1 | 141 | 88
North Attleboro NFH:
Bristol, MA | 11,953,854 | 5 | <0.1 | 2,147 | 1,439
Pocosin Lakes NWR:
Hyde, NC | 36,521 | <1 | <0.1 | 41 | 38
Tyrrell, NC | 43,816 | <1 | <0.1 | 20 | 17
Washington, NC | 120,827 | <1 | <0.1 | 46 | 35
Shiawassee NWR:
Saginaw, MI | 4,019,898 | <1 | <0.1 | 825 | 528
Southern Maryland Woodlands NWR:
Anne Arundel, MD | 11,736,536 | <1 | <0.1 | 1,984 | 1,216
Calvert, MD | 1,166,179 | <1 | <0.1 | 204 | 137
Charles, MD | 2,882,128 | <1 | <0.1 | 479 | 281
Prince George's, MD | 13,034,013 | <1 | <0.1 | 2,361 | 1,482
St. Mary's, MD | 1,703,425 | <1 | <0.1 | 294 | 172
¹ U.S. Census Bureau.

With the small change in overall spending anticipated from this proposed rule, it is unlikely that a substantial number of small entities will have more than a small impact from the spending change near the affected stations. Therefore, we certify that this rule, as proposed, will not have a significant economic effect on a substantial number of small entities as defined under the Regulatory Flexibility Act (5 U.S.C. 601 et seq.). A regulatory flexibility analysis is not required. Accordingly, a small entity compliance guide is not required.

Congressional Review Act

The proposed revisions and additions to the CFR, collectively, are not a major rule under 5 U.S.C. 804(2), the Congressional Review Act. We anticipate no significant employment or small business effects. Collectively, the proposed revisions and additions to the CFR:

a. Would not have an annual effect on the economy of $100 million or more. The minimal impact would be scattered across the country and would most likely not be significant in any local area.

b. Would not cause a major increase in costs or prices for consumers; individual industries; Federal, State, or local government agencies; or geographic regions. The proposed opportunities would have only a slight effect on the costs of hunting opportunities for Americans. If the substitute sites are farther from the participants' residences, then an increase in travel costs would occur. The Service does not have information to quantify this change in travel cost but assumes that, since most people travel less than 100 miles to hunt, the increased travel cost would be small. We do not expect the proposed hunting opportunities to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. The proposed additions and revisions to existing opportunities represent only a small proportion of recreational spending at NWRs. Therefore, if adopted, the proposed additions and revisions to the CFR would have no measurable economic effect on the wildlife-dependent industry, which has annual sales of equipment and travel expenditures of $72 billion nationwide.

Unfunded Mandates Reform Act (2 U.S.C. 1501 et seq.)

Since the proposed revisions and additions to the CFR would apply to public use of federally owned and managed refuges, it would not impose an unfunded mandate on State, local, or Tribal governments or the private sector of more than $100 million per year. The proposed revisions and additions to the CFR would not have a significant or unique effect on State, local, or Tribal governments or the private sector. A statement containing the information required by the Unfunded Mandates Reform Act (2 U.S.C. 1531 et seq.) is not required.

Takings—E.O. 12630

In accordance with E.O. 12630, the proposed revisions and additions to the CFR would not have significant takings implications. The proposed revisions and additions to the CFR would affect only visitors to NWRs and NFHs and would describe what they can do while they are on a Service station.

Federalism—E.O. 13132

As discussed under Regulatory Planning and Review and Unfunded Mandates Reform Act, above, the proposed revisions and additions to the CFR would not have sufficient federalism implications to warrant the preparation of a federalism summary impact statement under E.O. 13132. In preparing these proposed revisions and additions to the CFR, we worked with State governments.

Civil Justice Reform—E.O. 12988

In accordance with E.O. 12988, the Department of the Interior has determined that these proposed revisions and additions to the CFR would not unduly burden the judicial system and that it meets the requirements of sections 3(a) and 3(b)(2) of E.O. 12988 (Civil Justice Reform).

Energy Supply, Distribution or Use—E.O. 13211

On May 18, 2001, the President issued E.O. 13211 on regulations that significantly affect energy supply, distribution, or use. E.O. 13211 requires agencies to prepare statements of energy effects when undertaking certain actions. Because the proposed revisions and additions to the CFR would open or expand hunting at 17 NWRS and NFHS stations, the proposed revisions and additions to the CFR are not collectively a significant regulatory action under E.O. 12866, and we do not expect it to significantly affect energy supplies, distribution, or use. Therefore, this action is not a significant energy action, and no statement of energy effects is required.

Consultation and Coordination With Indian Tribal Governments—E.O. 13175

In accordance with E.O. 13175, we have evaluated possible effects on federally recognized Indian Tribes and have determined that there are no effects. We coordinate recreational use on NWRs and NFHs with Tribal governments having adjoining or overlapping jurisdiction before we propose the regulations.

Unleashing Prosperity Through Deregulation—E.O. 14192

The proposed revisions and additions to the CFR are not an E.O. 14192 (90 FR 9065; February 6, 2025) regulatory action because the proposed revisions and additions to the CFR are not significant under E.O. 12866.

Paperwork Reduction Act of 1995 (44 U.S.C. 3501 et seq.)

The proposal for revisions and additions to the CFR also contains existing and new collections of information. All information collections require approval by the OMB under the Paperwork Reduction Act of 1995 (44 U.S.C. 3501 et seq.). An agency may not conduct or sponsor, and a person is not required to respond to, a collection of information unless it displays a currently valid OMB control number. The OMB has reviewed and approved the information collection requirements associated with hunting and sport fishing activities across the National Wildlife Refuge System and National Fish Hatchery System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 09/30/2025),

• 1018-0102, “National Wildlife Refuge Special Use Permit Applications and Reports, 50 CFR 25, 26, 27, 29, 30, 31, 32, & 36” (Expires 05/31/2025, and in accordance with 5 CFR 1320.10, an agency may continue to conduct or sponsor this collection of information while the submission is pending at OMB),

• 1018-0135, “Electronic Federal Duck Stamp Program” (Expires 03/31/2026),

• 1018-0093, “Federal Fish and Wildlife Permit Applications and Reports—Management Authority; 50 CFR 13, 15, 16, 17, 18, 22, 23” (Expires 12/31/2026), and

• 1024-0252, “The Interagency Access Pass and Senior Pass Application Processes” (Expires 10/31/2027).

In accordance with the PRA and its implementing regulations at 5 CFR 1320.8(d)(1), we provide the general public and other Federal agencies with an opportunity to comment on our proposal to revise OMB Control Number 1018-0140. This input will help us assess the impact of our information collection requirements and minimize the public's reporting burden. It will also help the public understand our information collection requirements and provide the requested data in the desired format.

As part of our continuing effort to reduce paperwork and respondent burdens, and in accordance with 5 CFR 1320.8(d)(1), we invite the public and other Federal agencies to comment on any aspect of this proposed information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

Comments that you submit in response to the proposed revisions and additions to the CFR are a matter of public record. Before including your address, phone number, email address, or other personal identifying information in your comment, you should be aware that your entire comment—including your personal identifying information—may be made publicly available at any time. While you can ask us in your comment to withhold your personal identifying information from public review, we cannot guarantee that we will be able to do so.

The existing and new reporting and/or recordkeeping requirements identified below require approval by OMB:

FORM 3-2358, “SPORT FISHING-SHRIMPING-CRABBING PERMIT APPLICATION”—Form 3-2358 collects the following information:

• Date of application: We often have application deadlines, and this information helps staff determine the order in which we received the applications. It also ensures that the information is current.

• State fishing license number: We ask for this information to verify the applicant is legally licensed by the State (where required).

• Permit type: On sport fishing permits, we ask what type of activity (crabbing, shrimping, crabbing, frogging, etc.) is being applied for.

• Applicant information: We collect name, address, phone number(s), and email so we can contact the applicant/permittee either during the application process or after receiving a permit.

• Signature and date: To confirm that the applicant (and parent/guardian, if a youth hunter) understands the terms and conditions of the permit.

FORM 3-2405 “SELF-CLEARING CHECK-IN/OUT PERMIT”—Form 3-2405 has three parts:

• Self-Clearing Daily Check-in Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog)) and deposit it in the permit box.

• Self-Clearing Daily Vehicle Permit. The driver and each user traveling in the vehicle must complete this part and display in clear view in the vehicle while on the refuge.

Form 3-2405 collects:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Total number of hunt days on the refuge (at the conclusion of their hunting activities). Refuge management will use this information to monitor and evaluate hunt quality and resource impacts.

• Success of harvest by hunters/anglers (number and type of harvest/caught). This information is critical to wildlife management programs on refuges. Each refuge will customize the form by listing game species and incidental species available on the refuge, hunting methods allowed, and data needed for certain species (e.g., for deer, whether it's a buck or doe and the number of points; or for turkeys, the weight and beard and spur lengths).

• Whether or not visitors observed black bear or hogs, for example. This information will help managers develop annual performance measures for hog removal, and it provides information to help develop resource management planning.

• Photograph of animal harvested (specific refuges only). This requirement documents the sex of animal prior to the hunter being eligible to harvest the opposite sex (where allowed).

• Date of visit and/or area visited.

• Comments. We encourage visitors to comment on their experience.

FORM 3-2439, “HUNTING APPLICATION/PERMIT”—Form 3-2439 collects the following information:

• Lottery application: Refuges who administer hunting via a lottery system use Form 3-2439 as the lottery application. If the applicant is successful, the completed Form 3-2439 also serves as their permit application, avoiding a duplication of burden on the public filling out two separate forms.

• Date of application: We often have application deadlines, and this information helps staff determine the order in which we received the applications. It also ensures that the information is current.

• Methods: Some refuges hold multiple types of hunts, i.e., archery, shotgun, primitive weapons, etc. We ask for this information to identify which opportunity(ies) a hunter is applying for.

• Species permit type: Some refuges allow only certain species, such as moose, elk, or bighorn sheep, to be hunted. We ask hunters to identify which species hunt they are applying for.

• Applicant information: We collect name, address, phone number(s), and email so we can contact the applicant/permittee either during the application process, when the applicant is successful in a lottery drawing, or after receiving a permit.

• Party members: Some refuges allow the permit applicant to include additional hunters in their group. We collect the names of all additional hunters, when allowed by the refuge.

• Parent/Guardian contact information: We collect name, relationship, address, phone number(s), and email for a parent/guardian of youth hunters. We ask for this information in the event of an emergency.

• Date: We ask hunters for their preferences for hunt dates.

• Hunt/Blind location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

• Disabled hunts: Some refuges provide an option to allow mobility-impaired applicants to reserve specific hunting blinds upon providing proof of disability. The refuge will not retain the proof of disability. The documentation will be shredded upon approval of the blind reservation.

FORM 3-2542, “HUNTER HARVEST REPORT”—Form 3-2542 collects the following information:

• State-issued hunter identification (ID)/license number. (Note: Refuges/hatcheries who rely on the State agency to issue hunting permits are not required to collect the permittee's personal identifying information (PII) on the harvest form. Those refuges/hatcheries may opt to collect only the State ID number assigned to the hunter in order to match harvest data with their issued permit. Refuges/hatcheries will collect either hunter PII or State-issued ID number, but not both.)

• Species observed—Data will be used by refuge/hatchery staff to document the presence of rare or unusual species.

• Permit number/type—Data will be used to link the harvest report to the issued permit.

• Hunt tag number—Data will be used to link the harvest report to the species-specific hunt tag.

• Number of youth (younger than age 18) in party—Data will be used to better understand volume of youth hunting on a refuge/hatchery. Specific hunter names are not collected, just total number of youths in hunting party.

• Harvested by—Data will be used to determine ratio of adults to youth hunters. Specific hunter names are not collected.

• Species observed—Data will be used by a refuge/hatchery to determine the presence of any unusual species (e.g., endangered or threatened species, or invasive species).

LABELING/MARKING REQUIREMENTS—As a condition of the permit, some refuges require permittees to label hunting and/or sport fishing gear used on the refuge. This equipment may include items such as the following: tree stands, blinds, or game cameras; hunting dogs (collars); flagging/trail markers; boats; and/or sport fishing equipment such as jugs, trotlines, and crawfish or crab traps. Refuges require the owner label their equipment with their last name, the State-issued hunting/fishing license number, and/or hunting/fishing permit number. Refuges may also require equipment for youth hunters include “YOUTH” on the label. This minimal information is necessary in the event the refuge needs to contact the owner.

REQUIRED NOTIFICATIONS—On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned lands, referred to as “easement overlay refuges,” may also require the hunter obtain written or oral permission from the landowner prior to accessing the land.

PROPOSED REVISIONS—With this submission, we are proposing three revisions to OMB Control No. 1018-0140 as described below:

1. Updates to Form 3-2439, “Hunting Application/Permit”—With the submission, we propose to incorporate the fields listed below from the Mentored Hunt Application (no form number assigned), which is currently approved under OMB Control No. 1018-0191, Lenape NWR Complex Mentored Hunt Application, into the currently approved Form 3-2439, “Hunting Application/Permit.” The Service requires all mentored hunt participants to sign the Service's “USFWS Release and Waiver of Liability,” as well as a Form 3-2260, “Agreement for Use of Likeness in Audio/Visual Products,” when they are on the Refuge.

• Emergency contact (name and phone number);

• Applicant hunting history, such as:

• Whether applicant has completed a basic hunter education course;

• Whether applicant has purchased a hunting license, and if yes, when;

• Previous hunting experience;

• Previous participation in a mentored hunt program;

• Interest in hunting;

• Family history of hunting;

• Whether applicant owns equipment and if yes, type of equipment; and

• Medical conditions/allergies for program staff to be aware of in the event of an emergency.

The information collected via the application will be used by the Service and partners to determine eligibility for the program the hunter applies to participate in. Upon OMB approval of this revision at the final rule stage, we will discontinue OMB Control No. 1018-0191.

2. Update Regarding Terms of Clearance—With this submission, we are also providing OMB with an update regarding the Terms of Clearance they assigned to Control Number 1018-0140 on 09/16/2022 regarding the implementation of a single, FedRAMP-certified platform for hunt applications. The Service obtained FedRAMP authorization for the RecAccess platform. We are also working with a contractor to improve services on the Recreation.gov platform. However, based on customer experience analysis, a mandate to consolidate to one platform would adversely affect the customer experience at some sites that offer free opportunities to veterans and youth. It would also create a problem for some refuges that charge for issued permits, not for each permit application. The use of two platforms allows the Service to account for the variability in fee models and to continue to offer free and low-cost options to our customers, as the Service primarily uses permits to limit use, not to generate fees.

3. New IC for Web-Based Permit Application Platforms—With this submission, we are also splitting the previously approved burden associated with hunting applications into separate information collections for hardcopy permit applications and those that are web-based permit applications on the Recreation.gov and RecAccess.com platforms. The online systems do not collect any information above what is currently approved to be collected via the hardcopy version of Form 3-2439.

Copies of the draft forms are available to the public by submitting a request to the Service Information Collection Clearance Officer using one of the methods identified above in ADDRESSES.

Title of Collection: Hunting and Fishing Application Forms and Activity Reports for National Wildlife Refuges and National Fish Hatcheries (50 CFR parts 32 and 71).

OMB Control Number: 1018-0140.

Form Numbers: 3-2348, 3-2405, 3-2439, and 3-2542.

Type of Review: Revision of a currently approved collection.

Respondents/Affected Public: Individuals/households.

Total Estimated Number of Annual Respondents: 1,632,055.

Total Estimated Number of Annual Responses: 1,632,055.

Estimated Completion Time per Response: Varies from 5 minutes to 30 minutes, depending on activity.

Total Estimated Number of Annual Burden Hours: 265,117.

Respondent's Obligation: Required to obtain or retain a benefit.

Frequency of Collection: On occasion for applications; annually or on occasion for reports.

Total Estimated Annual Non-Hour Burden Cost: $87,365 (primarily associated with application fees at some refuges hunting and/or sport fishing).

Send your written comments and suggestions on this information collection by the date indicated in DATES to the Service Information Collection Clearance Officer, U.S. Fish and Wildlife Service, MS: PRB/PERMA (JAO), 5275 Leesburg Pike, Falls Church, VA 22041-3803 (mail); or by email to Info_Coll@fws.gov. Please reference OMB Control Number 1018-0140 in the subject line of your comments.

Endangered Species Act of 1973 (16 U.S.C. 1531 et seq.)

We comply with section 7 of the Endangered Species Act of 1973, as amended (16 U.S.C. 1531 et seq.), when developing comprehensive conservation plans and step-down management plans—which includes hunting and/or fishing plans—for public use of refuges and hatcheries, and prior to implementing any new or revised public recreation program on a station as identified in 50 CFR 26.32. We complied with section 7 for each of the stations affected by this proposed rulemaking.

National Environmental Policy Act (42 U.S.C. 4321 et seq.)

We analyzed this proposed rule in accordance with the criteria of the National Environmental Policy Act of 1969 (NEPA; 42 U.S.C. 4332(C)) and 516 Departmental Manual (DM) 8.

A categorical exclusion from NEPA documentation applies to publication of proposed amendments to station-specific hunting and fishing regulations because they are technical and procedural in nature, and the environmental effects are too broad, speculative, or conjectural to lend themselves to meaningful analysis (516 DM 8). Concerning the actions that are the subject of these proposed additions and revisions, we have complied with NEPA at the project level when developing each proposal. This is consistent with the Department of the Interior instructions for compliance with NEPA where actions are covered sufficiently by an earlier environmental document.

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA and the Department of Interior's NEPA regulations at 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States and Territories listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Christian Myers, Division of Natural Resources and Conservation Planning, National Wildlife Refuge System, is the primary author of this document.

Proposed Regulation Summary Table

The regulatory amendments set forth below are presented alongside existing station-specific regulations that have not been amended. For a table that provides additional clarity on which specific regulatory provisions have been amended, please see Docket No. FWS-HQ-NWRS-2025-0031 on https://www.regulations.gov for a separate document containing a table that provides additional clarity on which specific regulatory provisions have been amended and how they have been amended.

List of Subjects

50 CFR Part 32

Fishing, Hunting, Reporting and recordkeeping requirements, Wildlife, Wildlife refuges.

50 CFR Part 71

Fish, Fishing, Hunting, Wildlife.

Proposed Regulation Promulgation

For the reasons described in the preamble, we propose to amend title 50, chapter I, subchapters C and E of the CFR as set forth below:

SUBCHAPTER C—THE NATIONAL WILDLIFE REFUGE SYSTEM

PART 32—HUNTING AND FISHING

1. The authority citation for part 32 continues to read as follows:

Authority: 5 U.S.C. 301; 16 U.S.C. 460k, 664, 668dd-668ee, and 715i; Pub. L. 115-20, 131 Stat. 86.

2. Amend § 32.7 by revising and republishing paragraphs (e), (t), and (qq) to read as follows:

§ 32.7 What refuge units are open to hunting and/or sport fishing?

* * * * *

(e) California. (1) Cibola National Wildlife Refuge.

(2) Clear Lake National Wildlife Refuge.

(3) Colusa National Wildlife Refuge.

(4) Delevan National Wildlife Refuge.

(5) Don Edwards San Francisco Bay National Wildlife Refuge.

(6) Grasslands Wildlife Management Area.

(7) Havasu National Wildlife Refuge.

(8) Humboldt Bay National Wildlife Refuge.

(9) Imperial National Wildlife Refuge.

(10) Kern National Wildlife Refuge.

(11) Lower Klamath National Wildlife Refuge.

(12) Marin Islands National Wildlife Refuge.

(13) Merced National Wildlife Refuge.

(14) Modoc National Wildlife Refuge.

(15) Sacramento National Wildlife Refuge.

(16) Sacramento River National Wildlife Refuge.

(17) Salinas River National Wildlife Refuge.

(18) San Diego National Wildlife Refuge.

(19) San Diego Bay National Wildlife Refuge.

(20) San Luis National Wildlife Refuge.

(21) San Pablo Bay National Wildlife Refuge.

(22) Sonny Bono Salton Sea National Wildlife Refuge.

(23) Stone Lakes National Wildlife Refuge.

(24) Sutter National Wildlife Refuge.

(25) Tule Lake National Wildlife Refuge.

* * * * *

(t) Maryland. (1) Blackwater National Wildlife Refuge.

(2) Eastern Neck National Wildlife Refuge.

(3) Patuxent Research Refuge.

(4) Southern Maryland Woodlands National Wildlife Refuge.

* * * * *

(qq) Texas. (1) Aransas National Wildlife Refuge.

(2) Balcones Canyonlands National Wildlife Refuge.

(3) Big Boggy National Wildlife Refuge.

(4) Brazoria National Wildlife Refuge.

(5) Buffalo Lake National Wildlife Refuge.

(6) Caddo Lake National Wildlife Refuge.

(7) Hagerman National Wildlife Refuge.

(8) Jocelyn Nungaray National Wildlife Refuge.

(9) Laguna Atascosa National Wildlife Refuge.

(10) Lower Rio Grande Valley National Wildlife Refuge.

(11) McFaddin National Wildlife Refuge.

(12) Muleshoe National Wildlife Refuge.

(13) Neches River National Wildlife Refuge.

(14) San Bernard National Wildlife Refuge.

(15) Texas Point National Wildlife Refuge.

(16) Trinity River National Wildlife Refuge.

* * * * *

3. Amend § 32.20 by revising and republishing paragraph (d) to read as follows:

§ 32.20 Alabama.

* * * * *

(d) Eufaula National Wildlife Refuge—(1) Migratory game bird hunting. We allow hunting of mourning dove and Eurasian-collared dove, duck, and goose on designated areas of the refuge subject to the following conditions:

(i) You must possess and carry a signed refuge hunt permit (signed brochure) when hunting.

(ii) All youth hunters (ages 10 through 15) must remain within sight and normal voice contact of a properly licensed hunting adult age 21 or older. Youth hunters must possess and carry verification of passing a State-approved hunter education course. One adult may supervise no more than two youth hunters.

(iii) All waterfowl hunting opportunities are spaced-blind and assigned by lottery. Hunters wishing to participate in our waterfowl hunt must submit a Waterfowl Lottery Application (FWS Form 3-2439, Hunt Application—National Wildlife Refuge System).

(iv) Hunters must remove all stands/blinds and other personal property at the end of each day's hunt (see § 27.93 of this chapter).

(v) We allow access to the refuge for hunting from 1½ hours before legal sunrise to 1½ hours after legal sunset.

(vi) We prohibit organized drives. We define a “drive” as an organized or planned effort to pursue, drive, chase, or otherwise frighten or cause game to move in the direction of any person(s) who is part of the organized or planned hunt and known to be waiting for the game.

(vii) We prohibit hunting or observing from an elevated stand without use of a full body harness.

(2) Upland game hunting. We allow hunting of gray squirrel and rabbit on designated areas of the refuge subject to the following conditions:

(i) The conditions set forth at paragraphs (d)(1)(i) and (ii) and (v) through (vii) of this section apply.

(ii) We allow only shotguns and State-designated archery equipment as means of take for upland game hunting.

(3) Big game hunting. We allow hunting of white-tailed deer and feral hog on designated areas of the refuge subject to the following conditions:

(i) The conditions set forth at paragraphs (d)(1)(i) and (v) through (vii) of this section apply.

(ii) We allow youth gun hunting opportunities that are spaced-blind and assigned by lottery. Hunters wishing to participate in our youth gun hunt must submit a Big/Upland Game Hunt Application (FWS Form 3-2439, Hunt Application—National Wildlife Refuge System).

(iii) All youth hunters must remain within sight and normal voice contact of a properly hunting-licensed adult age 21 or older. Youth hunters must possess and carry verification of passing a State-approved hunter education course. One adult may supervise no more than one youth hunter.

(iv) All big game hunting opportunities, except for youth gun, are archery-only.

(v) We close those portions of the refuge between Bustahatchee and Rood Creeks to archery hunting until November 1.

(4) Sport fishing. We allow sport fishing, including bowfishing, in designated areas of the refuge subject to the following conditions:

(i) We allow shoreline access for fishing from 1 hour before legal sunrise to 1 hour after legal sunset.

(ii) We prohibit taking frog or turtle on all refuge lands and waters (see § 27.21 of this chapter).

(iii) We adopt reciprocal license agreements between Alabama and Georgia for fishing in Lake Eufaula. Anglers fishing in waters not directly connected to Lake Eufaula must be properly licensed for the State in which they are fishing.

* * * * *

4. Amend § 32.24 by:

a. Redesignating paragraphs (f) through (x) as paragraphs (g) through (y), respectively;

b. Adding new paragraph (f); and

c. Revising and republishing newly redesignated paragraphs (r) and (t).

The addition and revisions read as follows:

§ 32.24 California.

* * * * *

(f) Grasslands Wildlife Management Area—(1) Migratory game bird hunting. We allow hunting of goose, duck, coot, moorhen, and snipe on designated areas of the refuge subject to the following conditions:

(i) You may not possess more than 25 shot shells while in the field once you have left your assigned parking lot. On the Freitas Units, you may not possess more than 25 shot shells once you are in the field.

(ii) You must return your permits (State-issued) to the check stations immediately upon completion of your hunt and prior to using any tour routes or leaving the refuge vicinity.

(iii) We restrict hunters in the spaced blind area to their assigned blind except when they are placing decoys, traveling to and from the parking area, retrieving downed birds, or pursuing crippled birds.

(iv) We restrict hunters in the spaced zone area of the East Bear Creek Unit and West Bear Creek Unit to their assigned zone except when they are traveling to and from the parking area, retrieving downed birds, or pursuing crippled birds.

(v) Access to the Freitas Unit free-roam hunting area is by boat only. We prohibit air-thrust and inboard water-thrust boats.

(vi) We require State-issued Type A area permits for accessing the Freitas Unit on Wednesdays, Saturdays, and Sundays.

(2) Upland game hunting. We allow hunting of pheasant on designated areas of the refuge.

(3)-(4) [Reserved]

* * * * *

(r) San Diego National Wildlife Refuge—(1) [Reserved]

(2) Upland game hunting. We allow hunting of quail, mourning and white-winged dove, spotted and ringed turtle dove, Eurasian collared-dove, brush rabbit, cottontail rabbit, and jackrabbit on designated areas of the refuge subject to the following conditions:

(i) Archery hunting of quail is limited to September one to the closing date established by the California Department of Fish and Wildlife (CDFW).

(ii) Hunting of brush rabbit and cottontail rabbit is limited to September one to the closing date established by CDFW.

(iii) Hunting of Eurasian collared-dove and jackrabbit is limited to September 1 to the last day of February.

(iv) We allow shotguns and archery only. Falconry is prohibited.

(v) We allow the use of dogs when hunting upland game.

(3) Big game hunting. We allow hunting of mule deer on designated areas of the refuge.

(4) [Reserved]

* * * * *

(t) San Luis National Wildlife Refuge—(1) Migratory game bird hunting. We allow hunting of goose, duck, coot, moorhen, and snipe on designated areas of the refuge subject to the following conditions:

(i) You may not possess more than 25 shot shells while in the field once you have left your assigned parking lot. On the Freitas Units, you may not possess more than 25 shot shells once you are in the field.

(ii) You must return your permits (State-issued) to the check stations immediately upon completion of your hunt and prior to using any tour routes or leaving the refuge vicinity.

(iii) We restrict hunters in the spaced blind area to their assigned blind except when they are placing decoys, traveling to and from the parking area, retrieving downed birds, or pursuing crippled birds.

(iv) We restrict hunters in the spaced zone area of the East Bear Creek Unit and West Bear Creek Unit to their assigned zone except when they are traveling to and from the parking area, retrieving downed birds, or pursuing crippled birds.

(v) Access to the Freitas Unit free-roam hunting area is by boat only. We prohibit air-thrust and inboard water-thrust boats.

(vi) We require State-issued Type A area permits for accessing the Freitas Unit on Wednesdays, Saturdays, and Sundays.

(vii) We prohibit the use of motorized boats and other flotation devices in the free-roam units with the exception of the Freitas Unit.

(viii) We prohibit vehicle trailers of any type or size to be in the refuge hunt areas at any time or to be left unattended at any location on the refuge.

(ix) We allow the use of dogs when hunting.

(2) Upland game hunting. We allow hunting of pheasant on designated areas of the refuge.

(3) [Reserved]

(4) Sport fishing. We allow sport fishing on designated areas of the refuge subject to the following conditions:

(i) We only allow fishing during normal refuge visitation hours in designated areas as posted.

(ii) We only allow the use of pole and line or rod and reel to take fish, and anglers must attend their equipment at all times.

* * * * *

5. Amend § 32.29 by revising and republishing paragraphs (b), (e), (h), and (i) to read as follows:

§ 32.29 Georgia.

* * * * *

(b) Blackbeard Island National Wildlife Refuge. (1)-(2) [Reserved]

(3) Big game hunting. We allow hunting of white-tailed deer and feral hog on designated areas of the refuge subject to the following conditions:

(i) We require a refuge hunt permit (electronic form) for all hunters age 16 and older.

(ii) Each hunter may place one stand on the refuge no earlier than one month prior to the opening day of each hunt but must remove the stand by the end of each hunt (see § 27.93 of this chapter).

(iii) Only permitted hunters may camp at the designated camping area during refuge hunts.

(iv) For hunting, we allow only bows as governed by State regulations.

(v) Hunters may take five deer (no more than two antlered).

(vi) We allow mooring of boats to the government dock only for loading and unloading purposes.

(4) Sport fishing. We allow fishing on designated areas of the refuge subject to the following conditions:

(i) We allow saltwater fishing year-round in the estuarine waters adjacent to the refuge.

(ii) We allow bank/beach saltwater fishing into estuarine waters only from legal sunrise to legal sunset except during managed hunts.

* * * * *

(e) Harris Neck National Wildlife Refuge. (1)-(2) [Reserved]

(3) Big game hunting. We allow hunting of white-tailed deer and feral hog on designated areas of the refuge subject to the following conditions:

(i) We require a refuge hunt permit (electronic form) for all hunters age 16 and older.

(ii) Each hunter may place one stand on the refuge during the week preceding each hunt but must remove the stand by the end of each hunt (see § 27.93 of this chapter).

(iii) We prohibit hunting within 100 yards (91 meters) of Harris Neck Road, the refuge entrance drive, Visitor Contact Station/Office, Barbour River Landing, Barbour River Road, or Gould's Cemetery.

(iv) Hunters may take five deer (no more than two antlered).

(v) During the gun hunt, we allow only shotguns (20 gauge or larger), muzzleloaders, bows, air rifles (.30 caliber or larger), and air bows, as governed by State regulations. We prohibit the use of centerfire rifles and prohibit the use of buckshot.

(vi) We allow the incidental take of armadillo, feral hog, and coyote during any refuge hunt with the weapons legal for that hunt, subject to applicable State seasons and regulations. There is no bag limit for these species.

(4) Sport fishing. We allow sport fishing on designated areas of the refuge subject to the following conditions:

(i) We allow saltwater fishing year-round in the estuarine waters adjacent to the refuge.

(ii) We allow bank fishing into estuarine waters only from legal sunrise to legal sunset except during managed hunts.

(iii) We prohibit freshwater fishing.

* * * * *

(h) Savannah National Wildlife Refuge—(1) Migratory game bird hunting. We allow hunting of waterfowl and mourning dove on designated areas of the refuge subject to the following conditions:

(i) We require a refuge hunt permit (electronic form) for all hunters age 16 and older.

(ii) To participate in the quota youth waterfowl hunt, youth hunters must submit the Waterfowl Lottery Application (FWS Form 3-2439, Hunt Application—National Wildlife Refuge System).

(iii) You may take feral hog and coyote during all refuge hunts (migratory bird, upland, and big game) with weapons authorized and legal for those hunts.

(iv) We allow the incidental take of armadillo, beaver, opossum, and raccoon during all refuge hunts (migratory bird, upland, and big game) with firearms and other equipment authorized for use on refuge lands in Georgia only.

(v) We allow the use of dogs for retrieving migratory birds.

(2) Upland game hunting. We allow hunting of squirrel and rabbit on designated areas of the refuge subject to the following conditions:

(i) The conditions set forth at paragraphs (h)(1)(i), (iii), and (iv) of this section apply.

(ii) You may not hunt on or within 100 yards (90 meters) of public roads, refuge facilities, roads and trails, and railroad rights-of-way, or in closed areas.

(3) Big game hunting. We allow hunting of white-tailed deer, turkey, alligator, feral hog, and coyote on designated areas of the refuge subject to the following conditions:

(i) The conditions set forth at paragraphs (h)(1)(i), (iii), and (iv) of this section apply.

(ii) To participate in the quota gun hunt for wheelchair-dependent hunters, hunters must submit the Quota Deer Hunt Application (FWS Form 3-2439, Hunt Application—National Wildlife Refuge System). To participate in the quota youth turkey hunt and learn weekend, youth hunters must submit the Big/Upland Game Hunt Application (FWS Form 3-2439, Hunt Application—National Wildlife Refuge System).

(iii) You may only use bows, as governed by State regulations, for deer, feral hog, and coyote hunting during the archery hunt for these species.

(iv) You may only use shotguns (20 gauge or larger, slugs only), centerfire rifles, centerfire pistols, muzzleloaders, and bows, as governed by State regulations, for deer, feral hog, and coyote hunting during the firearm hunts for these species.

(v) Hunters may take as many as five deer (no more than two antlered). There is no bag limit on feral hog or coyote.

(vi) We allow only shotguns with approved nontoxic #2 shot or smaller, and bows, as governed by State regulations, for turkey hunting. We prohibit the use of slugs or buckshot for turkey hunting.

(vii) We prohibit catch-and-release of alligators.

(4) Sport fishing. We allow sport fishing on designated areas of the refuge subject to the following conditions:

(i) Anglers may fish in refuge impoundments and canals from March 1 through November 30 annually.

(ii) Anglers may fish in Kingfisher Pond and all tidal creeks year-round.

(iii) We allow fishing from legal sunrise to legal sunset.

(iv) Anglers may bank fish year-round throughout the refuge, unless otherwise posted.

(v) Anglers may only use nonmotorized boats and boats with electric motors within impounded waters.

(i) Wassaw National Wildlife Refuge. (1)-(2) [Reserved]

(3) Big game hunting. We allow hunting of white-tailed deer and feral hog on designated areas of the refuge subject to the following conditions:

(i) We require a refuge hunt permit (electronic form) for all hunters age 16 and older.

(ii) Hunters may take five deer (no more than two antlered).

(iii) We prohibit the use of buckshot.

(iv) We allow mooring of boats to the government dock only for loading or unloading purposes.

(v) We allow only permitted hunters to camp at the designated camping area while participating in refuge hunts.

(vi) Each hunter may place one stand on the refuge no earlier than one month prior to the opening day of each hunt, but you must remove all stands by the end of each hunt (see § 27.93 of this chapter).

(4) Sport fishing. We allow sport fishing on designated areas of the refuge subject to the following conditions:

(i) We allow saltwater fishing year-round in the estuarine waters adjacent to the refuge.

(ii) We allow bank/beach fishing into estuarine waters only from legal sunrise to legal sunset except during managed hunts.

(iii) We prohibit freshwater fishing.

* * * * *

6. Amend § 32.37 by revising and republishing paragraphs (l), (t), and (u) to read as follows:

§ 32.37 Louisiana.

* * * * *

(l) D'Arbonne National Wildlife Refuge—(1) Migratory game bird hunting. We allow hunting of duck, goose, coot, and woodcock on designated areas of the refuge subject to the following conditions:

(i) You must carry a signed refuge hunt permit (signed public use regulations brochure) and must carry and fill out daily a Visitor Check-In Permit and Report (FWS Form 3-2405).

(ii) We allow waterfowl hunting until 12 p.m. (noon) during the State season.

(iii) Hunters may enter the refuge no earlier than 4 a.m. and must exit no later than 1:30 p.m.

(iv) We prohibit hunting within 100 feet (30 meters (m)) of the maintained rights-of-way of roads. We prohibit hunting within 50 feet (15 m) or trespassing on aboveground oil, gas, or electrical transmission facilities.

(v) Hunters must remove boats, blinds, and decoys from the refuge at the end of each day's hunt (see § 27.93 of this chapter).

(vi) When hunting migratory game birds, you may only use dogs to locate, point, and retrieve game.

(2) Upland game hunting. We allow hunting of squirrel, rabbit, raccoon, and opossum on designated areas of the refuge subject to the following conditions:

(i) The conditions set forth at paragraphs (l)(1)(i) and (iv) of this section apply.

(ii) You may enter the refuge no earlier than 4 a.m. and must exit no later than 2 hours after legal shooting hours.

(iii) When hunting upland game, you may only use dogs to locate, point, and retrieve game.

(3) Big game hunting. We allow hunting of white-tailed deer on designated areas of the refuge as indicated subject to the following conditions:

(i) The conditions set forth at paragraphs (l)(1)(i) and (iv) and (l)(2)(ii) of this section apply.

(ii) You must check all deer taken during general gun deer hunts at a refuge check station on the same day taken.

(iii) We prohibit hunters from placing or hunting from stands on pine trees with white-painted bands or rings.

(4) Sport fishing. We allow sport fishing on the refuge subject to the following condition: We prohibit the taking of turtle (see § 27.21 of this chapter).

* * * * *

(t) Tensas River National Wildlife Refuge—(1) Migratory game bird hunting. We allow hunting of duck, goose, rail, gallinule, coot, woodcock, and snipe on designated areas of the refuge subject to the following conditions:

(i) All hunters and anglers age 16 and older must purchase an Annual Public Use Permit (FWS Form 3-2439). This permit allows individuals to participate in open (non-quota) hunting and fishing seasons.

(ii) All hunters and anglers must obtain a Self-Clearing Permit (FWS Form 3-2405), available at refuge entry points and at the Visitor Center, or utilize electronic check in and check out, and complete the self-clearing process when exiting the refuge at the end of each day.

(iii) We allow hunting of duck, goose, rail, gallinule, coot, and snipe on Tuesdays, Thursdays, Saturdays, and Sundays until 2 p.m. during the State season. We prohibit migratory bird hunting during refuge gun hunts for deer.

(iv) We allow refuge hunters to enter the refuge no earlier than 4 a.m., and they must leave no later than 2 hours after legal sunset unless they are participating in the refuge nighttime raccoon hunt or tracking wounded deer.

(v) We allow all-terrain vehicle (ATV) travel on designated trails for access typically from October 1 to the last day of the refuge squirrel season.

(vi) We prohibit field dressing of game within 150 feet (45 meters) of parking areas, maintained roads, and trails.

(vii) An adult age 18 or older must supervise youth hunters age 17 and younger during all hunts. One adult may supervise two youths during small game and migratory bird hunts but may supervise only one youth during big game hunts. Youth must remain within normal voice contact of the adult who is supervising them.

(viii) We allow the incidental take of coyote, beaver, raccoon, opossum, feral hog, armadillo, and nutria during authorized hunts with firearms and archery equipment legal for use during the hunt.

(2) Upland game hunting. We allow hunting of raccoon, squirrel, and rabbit, and the incidental take of coyote, beaver, raccoon, opossum, armadillo, and nutria, on designated areas of the refuge subject to the following conditions:

(i) The conditions set forth at paragraphs (t)(1)(i), (ii), and (iv) through (viii) of this section apply.

(ii) A nighttime raccoon hunt will be conducted during December, January, and/or February, usually in conjunction with the adjacent State Wildlife Management Area (WMA) raccoon hunting season.

(iii) We allow the use of dogs when squirrel and rabbit hunting subject to the following conditions:

(A) We allow hunting without dogs from the beginning of the State season to December 31.

(B) From the beginning of the State season to December 31, we do not require hunters to wear hunter orange.

(C) We allow squirrel and rabbit hunting with or without dogs from January 1 to the last day of February.

(D) From January 1 to the last day of February, squirrel and rabbit hunters are required to wear a minimum solid hunter orange cap.

(E) We allow no more than three dogs per hunting party.

(iv) We close squirrel and rabbit hunting during the following gun hunts for deer: Refuge-wide youth hunt, primitive firearms hunt, and modern firearms hunts.

(3) Big game hunting. We allow hunting of white-tailed deer and turkey, and the incidental take of feral hog, on designated areas of the refuge subject to the following conditions:

(i) The conditions set forth at paragraphs (t)(1)(i), (ii), and (iv) through (viii) of this section apply.

(ii) We require a valid Quota Firearm Permit (FWS Form 3-2439) to hunt during a Deer Quota Firearm Hunt. You must complete and submit an application for all Deer Quota Hunts, and hunters will be notified of their drawing status. If selected, hunters are required to purchase the Annual Public Use Permit (FWS Form 3-2439) to claim their Quota Firearm Permit for the selected hunt. Hunters must carry a signed paper copy or electronic version of the permit with them on their person while hunting.

(iii) Deer archery season will begin the first Saturday in November and will conclude on January 31, except for during the youth gun hunt and modern firearms hunts, when archery is prohibited.

(iv) The deer primitive firearms season will occur between November 1 and January 31. We allow all legal primitive firearms as governed by State regulations.

(v) During the deer primitive firearms season, hunters may fit any legal primitive firearms with magnified scopes.

(vi) We allow hunters using primitive weapons to hunt reforested areas.

(vii) We prohibit youth hunters from using modern firearms during the primitive weapon hunt.

(viii) We prohibit hunting and/or shooting into or across any reforested area during the gun hunts for deer.

(ix) For the guided quota youth hunts, we consider youth to be ages 8 through 15.

(x) We will conduct a refuge-wide youth deer hunt that will coincide with the State youth hunt weekend.

(xi) Hunters may take only one deer (one buck or one doe) per day during refuge deer hunts, except that during guided youth and wheelchair-bound hunts, the limit will be one antlerless and one antlered deer per day.

(xii) We allow turkey hunting in designated areas during the State turkey hunt season not to exceed 16 days.

(xiii) We allow a youth turkey hunt weekend in conjunction with the State youth turkey hunt weekend.

(xiv) We allow muzzleloader hunters to discharge their primitive firearms at the end of each hunt safely into the ground at least 150 feet (45 meters (m)) from any designated public road, maintained road, trail, fire break, dwelling, or aboveground oil and gas production facility. We define a “maintained road or trail” as one that has been mowed, disked, or plowed, or one that is free of trees.

(xv) We prohibit deer hunters leaving deer stands unattended before the opening day of the refuge archery season. Hunters must remove stands from the refuge by the end of the last day of the refuge archery season (see § 27.93 of this chapter). Hunters must remove portable stands from trees at the end of each day's hunt and place freestanding stands in a nonhunting position when unattended. Hunters must clearly mark stands left unattended on the refuge with the hunter's last name, Louisiana Department of Wildlife and Fisheries license number, and I-Sportsman Permit Number.

(xvi) We allow hunting with slugs, rifle, or pistol ammunition larger than .22 caliber rimfire only during the quota hunts for deer. We prohibit use of buckshot when hunting.

(4) Sport fishing. We allow sport fishing on designated areas of the refuge subject to the following conditions:

(i) The conditions set forth at paragraphs (t)(1)(i) and (ii) of this section apply.

(ii) We allow anglers to enter the refuge no earlier than 4 a.m., and they must depart no later than 2 hours after legal sunset.

(iii) We prohibit the taking of turtle (see § 27.21 of this chapter).

(iv) We prohibit fish cleaning within 150 feet (45 m) of parking areas, maintained roads, and trails.

(u) Upper Ouachita National Wildlife Refuge—(1) Migratory game bird hunting. We allow hunting of duck, goose, coot, dove, rail, gallinule, snipe, and woodcock on designated areas of the refuge subject to the following conditions:

(i) You must carry a signed refuge public use brochure and must carry and fill out daily a Visitor Check-In Permit and Report (FWS Form 3-2405).

(ii) Hunters may only hunt during designated refuge seasons as listed in the signed refuge public use brochure.

(iii) We allow waterfowl hunting until 12 p.m. (noon) during the State season. Waterfowl hunters must exit the refuge no later than 1:30 p.m.

(iv) Hunters may enter the refuge no earlier than 4 a.m.

(v) We prohibit hunting within 100 feet (30 meters (m)) of the maintained rights-of-way of roads and from or across all-terrain vehicle (ATV) trails. We prohibit hunting within 50 feet (15 meters (m)) of, or trespassing on, aboveground oil, gas, or electrical transmission facilities.

(vi) When hunting migratory game birds, you may only use dogs to locate, point, and retrieve.

(vii) We allow ATVs only on trails designated for their use and marked by signs (see § 27.31 of this chapter). ATV trails are closed March 1 through August 31.

(viii) We allow the incidental take of coyote, beaver, and feral hog during any refuge hunt with the weapons legal for that hunt, subject to applicable State seasons and regulations.

(2) Upland game hunting. We allow hunting of quail, squirrel, rabbit, raccoon, and opossum, and the incidental take of coyote and beaver, on designated areas of the refuge subject to the following conditions:

(i) The conditions set forth at paragraphs (u)(1)(i), (ii), (iv), (v), (vii), and (viii) of this section apply.

(ii) You must exit no later than 2 hours after legal shooting hours, unless participating in authorized hunting after legal sunset.

(iii) We allow the nighttime hunting of raccoon and opossum from December 1 to January 31 with the aid of dogs. We allow hunting of raccoon and opossum during the daylight hours of rabbit and squirrel season.

(3) Big game hunting. We allow hunting of white-tailed deer and turkey, and the incidental take of feral hog, on designated areas of the refuge subject to the following conditions: (i) The conditions set forth at paragraphs (u)(1)(i), (ii), (iv), (v), (vii), and (viii), and (u)(2)(ii) of this section apply.

(ii) Deer hunters must wear hunter orange as governed by State deer hunting regulations in wildlife management areas.

(iii) We prohibit hunters from placing stands or hunting from stands on pine trees with white-painted bands and/or rings.

(4) Sport fishing. We allow sport fishing on designated areas of the refuge subject to the following conditions:

(i) We prohibit leaving boats and other personal property on the refuge overnight (see § 27.93 of this chapter).

(ii) You must tend trotlines daily. You must attach ends of trotlines by a length of cotton line that extends into the water.

(iii) We prohibit the taking of turtle (see § 27.21 of this chapter).

* * * * *

7. Amend § 32.38 by revising and republishing paragraph (c) to read as follows:

§ 32.38 Maine.

* * * * *

(c) Moosehorn National Wildlife Refuge—(1) Migratory game bird hunting. We allow hunting of duck, goose, American woodcock, and snipe on designated areas of the refuge subject to the following conditions:

(i) We allow the use of dogs consistent with State regulations.

(ii) We allow hunters to enter the refuge 1 hour before legal shooting hours, and they must exit the refuge by 1 hour past legal shooting hours.

(iii) We only allow portable or temporary blinds and decoys that must be removed from the refuge following each day's hunt (see § 27.93 of this chapter).

(iv) Hunters must retrieve all species harvested on the refuge.

(2) Upland game hunting. We allow hunting of bobcat, eastern coyote, ruffed grouse, snowshoe hare, red fox, gray and red squirrel, raccoon, skunk, porcupine, and woodchuck on designated areas of the refuge subject to the following conditions:

(i) The conditions set forth at paragraphs (c)(1)(i), (ii) (except for hunters pursuing raccoon and coyote at night), (iii), and (iv) of this section apply.

(ii) We allow hunting for eastern coyote, red squirrel, and woodchuck only from October 1 to March 31.

(3) Big game hunting. We allow hunting of black bear, moose, turkey, and white-tailed deer on designated areas of the refuge subject to the following conditions:

(i) The conditions set forth at paragraphs (c)(1)(i), (ii), and (iv) of this section apply.

(ii) We allow stands, blinds, and ladders to be set up on the opening day of the archery deer season. Stands, blinds and ladders may not be set up within 50 yards of a road open to motorized vehicles. Hunters must clearly label tree stands, blinds, or ladders left on the refuge overnight with your State hunting license number and last name. Hunters must remove stands, blinds, and ladders from the refuge by the last day of the muzzleloader deer season (see § 27.93 of this chapter).

(iii) You may hunt black bear, eastern coyote, and white-tailed deer during the State archery and firearms deer seasons on the Baring Division east of State Route 191.

(iv) We prohibit use of firearms to hunt bear during the archery deer season on the Baring Division east of Route 191. We prohibit the use of firearms, other than a muzzleloader, to hunt coyote during the deer muzzleloader season on the Baring Division east of Route 191.

(v) You may hunt turkey during the State fall turkey season using archery equipment only.

(4) Sport fishing. We allow sport fishing on designated areas of the refuge subject to the following conditions:

(i) We only allow fishing from ½ hour before legal sunrise to ½ hour after legal sunset.

(ii) We prohibit trapping fish for use as bait.

* * * * *

8. Amend § 32.39 by adding paragraph (d) to read as follows:

§ 32.39 Maryland.

* * * * *

(d) Southern Maryland Woodlands National Wildlife Refuge. (1)-(2) [Reserved]

(3) Big game hunting. We allow the hunting of white-tailed deer and turkey on designated areas of the refuge subject to the following conditions:

(i) We allow only the use of archery equipment, as defined by the State, in designated areas open to hunting.

(ii) We prohibit organized deer drives. We define a “deer drive” as an organized or planned effort to pursue, drive, chase, or otherwise frighten or cause deer to move in the direction of any person(s) who is part of the organized or planned hunt and known to be waiting for the deer.

(4) [Reserved]

9. Amend § 32.41 by revising and republishing paragraph (f) to read as follows:

§ 32.41 Michigan.

* * * * *

(f) Shiawassee National Wildlife Refuge—(1) Migratory game bird hunting. We allow hunting of waterfowl (duck and goose), American woodcock, American crow, American coot, common gallinule, sora, Virginia rail, and Wilson's snipe on designated areas of the refuge subject to the following conditions:

(i) You must possess and carry a refuge check-in card (FWS Form 3-2405, Self-Clearing Check-in Permit).

(ii) We allow waterfowl hunting on Saturdays, Sundays, Tuesdays, and Thursdays during the regular goose season after September 30 and during the State youth waterfowl season.

(iii) We allow hunter access to the refuge 2 hours before legal shooting time to 2 hours after legal shooting time.

(iv) You may possess no more than 25 shotgun shells while hunting in the field.

(v) We allow the use of dogs while hunting, provided the dog is under the immediate control of the hunter at all times.

(vi) We allow the take of feral hogs incidental to other lawful hunting using legal methods of take.

(2) Upland game hunting. We allow hunting of turkey, small game (eastern fox squirrel, eastern cottontail, and ring-necked pheasant), and furbearers (raccoon, coyote, and red fox) on designated areas of the refuge subject to the following conditions:

(i) The conditions set forth at paragraphs (f)(1)(iii) and (vi) of this section apply, except we allow hunter access to the refuge for furbearer hunting from ½ hour before legal sunrise to ½ hour after legal sunset.

(ii) You may only hunt turkey during the spring season.

(iii) We allow dogs for hunting. Raccoon hunting dogs must wear global positioning system (GPS) or radio collars.

(3) Big game hunting. We allow hunting of white-tailed deer on designated areas of the refuge subject to the following conditions:

(i) The conditions set forth at paragraphs (f)(1)(iii) and (vi) of this section apply.

(ii) You must possess and carry a refuge permit (State-issued permit).

(4) Sport fishing. We allow sport fishing on designated areas of the refuge subject to the following conditions:

(i) We allow fishing by boat in navigable waterways but not within any managed refuge units.

(ii) We allow bank fishing from legal sunrise to legal sunset only at designated sites along the Tittabawassee and Cass Rivers.

10. Amend § 32.45 by revising and republishing paragraphs (c), (d), (h), (j), and (l) to read as follows:

§ 32.45 Montana.

* * * * *

(c) Black Coulee National Wildlife Refuge—(1) Migratory game bird hunting. We allow migratory game bird hunting on designated areas of the refuge subject to the following condition: You must remove all boats, decoys, portable blinds, other personal property, and any materials brought onto the refuge for blind construction by legal sunset each day (see §§ 27.93 and 27.94 of this chapter).

(2) Upland game hunting. We allow hunting of pheasant, sharp-tailed grouse, sage grouse, gray partridge, fox, and coyote on designated areas of the refuge subject to the following condition: Fox and coyote hunters may only use centerfire rifles, rimfire rifles, or shotguns with approved nontoxic shot (see § 32.2(k)).

(3) Big game hunting. We allow big game hunting on designated portions of the refuge subject to the following conditions:

(i) We allow hunters to leave portable tree stands, portable blinds, and freestanding elevated platforms on the refuge from August 15 through December 15.

(ii) You must visibly mark portable tree stands, portable blinds, and freestanding elevated platforms with your automated licensing system (ALS) number.

(4) [Reserved]

(d) Bowdoin National Wildlife Refuge—(1) Migratory game bird hunting. We allow migratory game bird hunting on designated areas of the refuge.

(2) Upland game hunting. We allow hunting of pheasant, sharp-tailed grouse, sage grouse, gray partridge, fox, and coyote on designated areas of the refuge subject to the following conditions:

(i) You must possess and carry a refuge Special Use Permit (FWS Form 3-1383-G) to hunt fox and coyote.

(ii) Fox and coyote hunters may only use centerfire rifles, rimfire rifles, or shotguns with approved nontoxic shot (see § 32.2(k)).

(3)-(4) [Reserved]

* * * * *

(h) Creedman Coulee National Wildlife Refuge—(1) Migratory game bird hunting. We allow migratory game bird hunting on designated areas of the refuge.

(2) Upland game hunting. We allow hunting of pheasant, sharp-tailed grouse, sage grouse, gray partridge, fox, and coyote on designated areas of the refuge.

(3) Big game hunting. We allow big game hunting on designated areas of the refuge.

(4) [Reserved]

* * * * *

(j) Hewitt Lake National Wildlife Refuge—(1) Migratory game bird hunting. We allow migratory game bird hunting on designated areas of the refuge subject to the following condition: You must remove all boats, decoys, portable blinds, other personal property, and any materials brought onto the refuge for blind construction by legal sunset each day (see §§ 27.93 and 27.94 of this chapter).

(2) Upland game hunting. We allow hunting of pheasant, sharp-tailed grouse, sage grouse, gray partridge, fox, and coyote on designated portions of the refuge subject to the following condition: Fox and coyote hunters may use only centerfire rifles, rim-fire rifles, or shotguns with approved nontoxic shot (see § 32.2(k)).

(3) Big game hunting. We allow big game hunting on designated areas of the refuge subject to the following conditions:

(i) We allow hunters to leave portable tree stands, portable blinds, and freestanding elevated platforms on the refuge from August 15 through December 15.

(ii) You must visibly mark portable tree stands, portable blinds, and freestanding elevated platforms with your automated licensing system (ALS) number.

(4) [Reserved]

* * * * *

(l) Lake Thibadeau National Wildlife Refuge—(1) Migratory game bird hunting. We allow migratory game bird hunting on designated areas of the refuge.

(2) Upland game hunting. We allow hunting of pheasant, sharp-tailed grouse, sage grouse, gray partridge, fox, and coyote on designated areas of the refuge.

(3) Big game hunting. We allow big game hunting on designated areas of the refuge.

(4) [Reserved]

* * * * *

11. Amend § 32.47 by revising and republishing paragraph (a) to read as follows:

§ 32.47 Nevada.

* * * * *

(a) Ash Meadows National Wildlife Refuge—(1) Migratory game bird hunting. We allow hunting of goose, duck, coot, moorhen, snipe, and dove on designated areas of the refuge subject to the following condition: We open the refuge to the public from 1 hour before legal sunrise until 1 hour after legal sunset.

(2) Upland game hunting. We allow hunting of quail and rabbit on designated areas of the refuge subject to the following condition: We open the refuge to the public from 1 hour before legal sunrise until 1 hour after legal sunset.

(3)-(4) [Reserved]

* * * * *

12. Amend § 32.51 by revising and republishing paragraph (e) to read as follows:

§ 32.51 New York.

* * * * *

(e) Montezuma National Wildlife Refuge—(1) Migratory game bird hunting. We allow hunting of waterfowl, Canada goose, snow goose, and gallinule on designated areas of the refuge subject to the following conditions:

(i) We allow the use of dogs consistent with State regulations.

(ii) For the regular waterfowl season and October through January season for Canada goose:

(A) We require daily electronic refuge permits and reservations. We require you to check in, check out, and report your harvest each hunt day using the designated online platform.

(B) We allow hunting only on Tuesdays, Thursdays, and Saturdays during the established refuge season set within the State western zone season, and during New York State's established special hunts, which can occur any day of the week as set by the State. Veteran and active military hunters may be accompanied by a non-hunting companion. Youth hunters must be accompanied by a qualified guide (qualified guides must be of legal hunting age and possess a valid hunting license, Federal Migratory Bird Hunting and Conservation Stamp (as known as “Federal Duck Stamp”), Harvest Information Program (HIP) number, and proof of successful completion of a waterfowl identification course as described in paragraph (e)(1)(ii)(F) of this section).

(C) Hunters may not enter the refuge earlier than 5 a.m. and must exit the hunt area by one p.m.

(D) We allow motorless boats to hunt waterfowl. We limit hunters to one boat per reservation and one motor vehicle in the hunt area per reservation. Participants in the New York State youth waterfowl hunt may request exceptions to this provision at the discretion of Refuge staff.

(E) We prohibit shooting from within 500 feet (152 meters) of the Tschache Pool observation tower.

(F) We require proof of successful completion of the New York State waterfowl identification course, the Montezuma nonresident waterfowl identification course, or a suitable nonresident State waterfowl identification course. All hunters must show proof of successful course completion each time they hunt.

(G) You may hunt gallinule and Canada goose on refuge areas designated for the regular waterfowl season only during the regular waterfowl season.

(iii) For Canada goose in September and snow goose hunting:

(A) We allow hunting of Canada goose during the New York State September season and hunting of snow goose during portions of the New York State snow goose season and portions of the period covered by the Light Goose Conservation Order.

(B) You must possess a valid daily hunt permit (FWS Form 3-2542). We require you to complete and return the daily hunt permit card by the end of the hunt day.

(C) For snow goose hunting, hunters may enter the refuge/Hunter Check Station area no earlier than 4 hours before legal sunrise. For Canada goose hunting, hunters may enter the refuge/Hunter Check Station area no earlier than 2 hours before legal sunrise.

(2) Upland game hunting. We allow hunting of rabbit and squirrel on designated areas of the refuge subject to the following conditions:

(i) The condition set forth at paragraph (e)(1)(i) of this section applies.

(ii) You must possess a valid daily hunt permit (FWS Form 3-2542) and are required to complete and return the daily hunt permit card by the end of each hunt day.

(iii) We allow upland game hunters to access the refuge from 2 hours before legal sunrise until 2 hours after legal sunset.

(iv) We require the use of approved non-lead ammunition for upland game hunting (see § 32.2(k)).

(3) Big game hunting. We allow hunting of white-tailed deer and wild turkey on designated areas of the refuge subject to the following conditions:

(i) The condition set forth at paragraph (e)(1)(i) of this section applies.

(ii) You must possess a valid daily hunt permit (FWS Form 3-2542). We require you to complete and return the daily hunt permit card by the end of the hunt day.

(iii) We allow white-tailed deer and turkey hunters to access the refuge from 2 hours before legal sunrise until 2 hours after legal sunset.

(iv) We allow youth and special big game hunts during New York state's established youth and special big game hunts each year.

(4) Sport fishing. We allow access for fishing from designated areas of the refuge subject to the following condition: We prohibit the use of lead fishing tackle.

* * * * *

13. Amend § 32.52 by revising and republishing paragraph (i) to read as follows:

§ 32.52 North Carolina.

* * * * *

(i) Pocosin Lakes National Wildlife Refuge—(1) Migratory game bird hunting. We allow hunting of duck, goose, swan, dove, woodcock, rail, and snipe on designated areas of the refuge subject to the following conditions:

(i) We require all hunters and anglers to possess and carry a signed, self-service refuge hunting/fishing permit (signed brochure) while hunting and fishing on the refuge. We require all hunters age 16 and older to purchase and carry a special refuge recreational activity permit (name/address/phone number).

(ii) We allow hunters to enter and remain in hunting areas from 2 hours before legal sunrise until 2 hours after legal sunset when we allow hunting in those areas.

(iii) We allow the use of all-terrain vehicles (ATVs) only on designated ATV roads (see § 27.31 of this chapter) and only to transport hunters and their equipment to hunt and scout. We allow hunting from ATVs while on these designated ATV roads when they are stationary and the engine is turned off. We allow ATV use only on the ATV roads at the following times:

(A) When we open the ATV road and surrounding area to hunting;

(B) One week prior to the ATV road and surrounding area opening to hunting; and

(C) On Sundays, when we open the ATV road and surrounding area for hunting the following Monday.

(iv) We allow the use of only biodegradable-type flagging.

(v) We allow the use of only portable blinds and temporary blinds constructed of natural materials. You must remove portable blinds at the end of each day (see § 27.93 of this chapter).

(vi) We allow the use of dogs to point and retrieve migratory game birds.

(2) Upland game hunting. We allow hunting of quail, squirrel, raccoon, opossum, rabbit, beaver, nutria, and fox on designated areas of the refuge subject to the following conditions:

(i) The conditions set forth at paragraphs (i)(1)(i) through (iv) of this section apply.

(ii) We only allow the taking of beaver and nutria with firearms and only during those times when the area is open to hunting of other game animals with firearms.

(iii) We prohibit the hunting of raccoon and opossum during, 5 days before, and 5 days after the State bear seasons. Outside of these periods, we allow the hunting of raccoon and opossum at night but only while possessing a General Special Use Application and Permit (FWS Form 3-1383-G).

(iv) We prohibit the use of rifles, other than .22-caliber rimfire rifles for hunting, and we prohibit the use of pistols for hunting.

(v) We allow the use of dogs for pointing and retrieving upland game and for chasing rabbit (but not fox). We prohibit possession of buckshot or slugs while hunting with dogs.

(3) Big game hunting. We allow hunting of black bear, deer, turkey, and feral hog on designated areas of the refuge subject to the following conditions:

(i) The conditions set forth at paragraphs (i)(1)(i) through (iv) of this section apply.

(ii) You may hunt turkey only if you carry a valid permit (General Activities Special Use Permit Application, FWS Form 3-1383-G). These permits are valid only for the dates and areas shown on the permit. You may possess only approved nontoxic shot (see § 32.2(k)) while hunting turkeys west of Evans Road and on the Pungo Unit.

(iii) We only allow the take of white-tailed deer with the use of archery equipment, black powder firearms, and shotguns as authorized by the North Carolina Wildlife Resources Commission.

(iv) For the special opportunity black bear hunt:

(A) We allow the use of centerfire rifle only;

(B) Hunters must shoot from a raised position (portable stand) of 15 feet or higher; and

(C) Additional requirements may apply for hunters selected to participate in the special opportunity hunt.

(v) We allow deer hunting on the Pungo Unit only through the end of October each season, except that we allow deer hunting with archery equipment on the Pungo Unit through the end of November.

(vi) We allow hunters to take feral hogs in any area that is open to hunting deer using only those weapons authorized for taking deer. On the Frying Pan tracts, we also allow hunters to take feral hogs, using only those weapons authorized for taking deer, whenever we open those tracts to hunting any game species with firearms.

(vii) We allow the use of only portable deer stands (tree climbers, ladders, tripods, etc.). We require that you remove all stands, blinds, and other personal property at the end of each day (see § 27.93 of this chapter).

(4) Sport fishing. We allow sport fishing on designated areas of the refuge subject to the following conditions:

(i) We allow fishing in Pungo Lake and New Lake only from March 1 through October 31, except that we close Pungo Lake and the entire Pungo Unit to fishing during the limited big game hunts.

(ii) We allow fishing only from ½ hour before legal sunrise until ½ hour after legal sunset.

* * * * *

14. Amend § 32.59 by revising and republishing paragraph (d) to read as follows:

§ 32.59 South Carolina.

* * * * *

(d) Pinckney Island National Wildlife Refuge. (1)-(2) [Reserved]

(3) Big game hunting. We allow hunting of white-tailed deer on designated areas of the refuge subject to the following conditions:

(i) We require a refuge hunt permit (electronic form) for all hunters age 16 and older.

(ii) Each hunter may place one stand on the refuge during the week preceding the hunt. You must remove your stand at the end of the hunt (see § 27.93 of this chapter).

(iii) We allow only shotguns (20 gauge or larger), muzzleloaders, and bows as governed by State regulations.

(iv) We prohibit the use of buckshot.

(v) We prohibit hunting closer than 100 yards (90 meters (m)) to U.S. Highway 278 or the check station area, or closer than 200 yards (180 m) to the residence area.

(vi) Hunters may take five deer (no more than two antlered).

(4) Sport fishing. We allow sport fishing on designated areas of the refuge subject to the following conditions:

(i) We allow saltwater fishing year-round in the estuarine waters adjacent to the refuge.

(ii) We prohibit freshwater fishing.

* * * * *

15. Amend § 32.62 by:

a. Removing paragraph (a);

b. Redesignating paragraphs (b) through (h) as paragraphs (a) through (g), respectively;

c. Revising and republishing newly redesignated paragraph (e);

d. Adding new paragraph (h); and

e. Revising and republishing paragraph (i).

The revisions and addition read as follows:

§ 32.62 Texas.

* * * * *

(e) Buffalo Lake National Wildlife Refuge—(1) Migratory game bird hunting. We allow hunting of mourning dove, white-winged dove, and Eurasian collared-dove on designated areas of the refuge subject to the following conditions:

(i) We require hunters to obtain a refuge permit (FWS Form 3-2439).

(ii) All hunters must check in and out at refuge headquarters.

(iii) Bag limits will be determined annually for each species but will never exceed the limits set by Texas Parks and Wildlife Department. Bag limits and other hunting information, such as number of hunt days and permits issued, will be posted prior to the hunt.

(iv) We prohibit the use of all-terrain vehicles (ATVs).

(v) 1 hour after legal sunset, hunters may only be present on the refuge in designated camping areas.

(vi) We allow the use of dogs for retrieving game.

(vii) Hunters must attend a briefing prior to all hunts.

(viii) We prohibit falconry.

(ix) All bird harvests must be checked at the designated check points.

(x) Hunting hours will be from ½ hour before legal sunrise until 12 p.m. (noon).

(2) Upland game hunting. We allow hunting of ring-necked pheasant, northern bobwhite, and scaled quail on designated areas of the refuge subject to the following conditions:

(i) The conditions set forth at paragraphs (f)(1)(i) through (ix) of this section apply.

(ii) Hunting hours will be from 9 a.m. to 4:30 p.m.

(iii) We allow only shotguns for pheasant and quail hunting.

(3) Big game hunting. We allow hunting of white-tailed deer, mule deer, and feral hog on designated areas of the refuge subject to the following conditions:

(i) The conditions set forth at paragraph (f)(1)(i) through (vii) of this section apply.

(ii) Hunters may enter the hunting area and begin hunting 1 hour before legal sunrise and must exit the hunting area by 1 hour after legal sunset.

(iii) We prohibit the use of tree stands and any devices, such as nails, tacks, or scaffolding, used to climb trees. We also prohibit the use of elevated blinds, including tripod blinds.

(iv) We prohibit the use of decoys.

(v) We only allow archery equipment or centerfire rifles (.243/6mm or larger) as methods of take.

(4) [Reserved]

* * * * *

(h) Jocelyn Nungaray National Wildlife Refuge—(1) Migratory game bird hunting. We allow hunting of goose, duck, coot, white-winged dove, mourning dove, rock dove, Eurasian collared-dove, and rock pigeon on designated areas of the refuge subject to the following conditions:

(i) You must carry a current signed refuge hunting permit (signed refuge hunt brochure) while waterfowl hunting on all refuge hunt units.

(ii) Season dates for waterfowl will be concurrent with the State, except as specified in the refuge hunt brochure.

(iii) Hunters age 17 and younger must be under the direct supervision of an adult age 18 or older.

(iv) For waterfowl hunting, you may enter the refuge hunt units no earlier than 4 a.m. Hunting starts at the designated legal shooting time and ends at 12 p.m. (noon). You must leave refuge hunt units by 12:30 p.m. For dove hunting, you may enter the refuge 1 hour before legal sunrise and must leave the refuge by ½ hour after legal sunset. We close refuge hunt units on Thanksgiving, Christmas, and New Year's Day.

(v) For waterfowl hunting, we allow hunting in portions of the East Unit on Saturdays, Sundays, and Tuesdays during the regular waterfowl seasons.

(vi) Hunters must check in and out through the check station (FWS Form 3-2405) when accessing the East Unit by vehicle.

(vii) We require hunters to remain in an assigned area for that day's hunt.

(viii) We allow hunters to access designated areas of the East Unit by boat from Jackson Ditch, East Bay Bayou, or Onion Bayou.

(ix) We allow hunting on the East Unit as governed by the State light goose conservation order. Hunt areas are by permit on a first-come, first-served basis the morning of the hunt. We allow a maximum of six persons per field. Individuals in each group must set up and stay in their permitted area and stay within 50 feet (15 meters (m)) of each other unless retrieving goose.

(x) Hunters must set up within 50 yards (45 m) of the post marker and must stay within 50 feet (15 m) of each other unless retrieving waterfowl. We allow a minimum of two, and a maximum of six, persons per permit.

(xi) We allow hunting in portions of the Middleton Tract daily during the September teal season and on Saturdays, Sundays, and Wednesdays of the regular waterfowl season.

(xii) We restrict motorized boats in inland waters of the Middleton Tract to motors of 25 horsepower or less or electric trolling motors during hunting season.

(xiii) You may access hunt areas by foot, nonmotorized watercraft, outboard motorboat, or airboat. Airboats may not exceed 10 horsepower with direct drive with a propeller length of 48 inches (120 centimeters) or less.

(xiv) On inland waters of refuge hunt areas open to motorized boats, we restrict the operation of motorized boats to lakes, ponds, ditches, and other waterways when hunting. We prohibit the operation of motorized boats on or through emergent wetland vegetation.

(xv) On inland waters of the refuge hunt areas open to motorized boats, we restrict the use of boats powered by air-cooled or radiator-cooled engines to those powered by a single engine of 25 horsepower or less and utilizing a propeller 9 inches (22.5 centimeters) in diameter or less during the hunting season.

(xvi) We allow portable blinds or temporary natural vegetation blinds. You must remove all blinds, decoys, boats, spent shells, marsh chairs, and other equipment from the refuge at the end of each day's hunt (see §§ 27.93 and 27.94 of this chapter).

(xvii) We require a minimum distance between hunt parties of 200 yards (180 m).

(xviii) We allow the use of dogs when hunting.

(2)-(3) [Reserved]

(4) Sport fishing. We allow fishing and crabbing on designated areas of the refuge subject to the following conditions:

(i) We allow fishing and crabbing only with pole and line, rod and reel, or handheld line. We prohibit the use any method not expressly allowed, including trotlines, setlines, jug lines, limb lines, bows and arrows, gigs, spears, or crab traps.

(ii) We allow cast netting for bait for personal use along waterways in areas open to the public and along public roads.

(iii) The conditions set forth at paragraphs (a)(1)(xiii) and (xv) of this section apply.

(iv) We prohibit mooring to water control structures.

(i) Laguna Atascosa National Wildlife Refuge—(1) Migratory game bird hunting. The refuge is closed to migratory bird hunting, including shoreline hunting, but retrieval of birds downed by hunters hunting on nearby navigable waters under State regulations is authorized subject to the following conditions:

(i) Hunters may not discharge firearms while retrieving waterfowl on the refuge.

(ii) Access for waterfowl retrieval will be allowed only during State specified hunting seasons. We only allow hunters to enter the Laguna Atascosa Unit by boat, and hunters may only enter subunits 3, 4, 5, 7, and 10, for retrieval of downed waterfowl.

(2) [Reserved]

(3) Big game hunting. We allow hunting of white-tailed deer, feral hog, nilgai antelope, other exotic ungulates, and American alligator on designated areas of the refuge subject to the following conditions:

(i) We allow the incidental take of nilgai antelope, feral hog, and other rarely observed exotic ungulates (such as fallow deer, axis deer, sika deer, Barbary sheep, and black buck) during all refuge hunts, with the exception of American alligator hunts.

(ii) We require hunters to review the refuge hunter orientation email prior to any refuge hunt activity.

(iii) Bag limits for species hunted on the refuge are provided in the refuge hunt brochure annually.

(iv) We allow a scouting period prior to the commencement of each refuge hunt period. A permitted hunter and a limit of two non-permitted individuals may enter the hunt units during the scouting period, which begins after hunter orientation and ends at legal sunset. Each hunter must clearly display a Vehicle Validation Tag (FWS Form 3-2405) face up on the vehicle dashboard when scouting and hunting.

(v) We allow hunters to enter the refuge 1½ hours before legal sunrise during their permitted hunt periods. Hunters must leave the hunt units no later than 1 hour after State legal shooting hours.

(vi) Hunters may access hunt units only by foot or bicycle, including electric bicycles. You may only use a bicycle on designated routes; we prohibit off-road use of a bicycle.

(vii) We allow hunting from portable stands or by stalking and still hunting. There is a limit of one blind or stand per permitted hunter. Hunters must attach hunter identification (permit number or State license number) to the blind or stand. Hunters must remove all blinds and stands at the end of the permitted hunt period (see § 27.93 of this chapter).

(viii) During American alligator hunts, we allow hunters to leave hooks set over only one night period at a time; set lines must be checked daily.

(ix) Hunters must field dress all harvested big game in the field and check the game at the hunt check station before removal from the refuge. Hunters may use a nonmotorized cart to assist with the transportation of harvested game animals.

(x) We prohibit the killing or wounding of a game animal and then intentionally or knowingly failing to make a reasonable effort to retrieve and include it in the hunter's bag limit.

(4) Sport fishing. We allow fishing and crabbing on designated areas of the refuge subject to the following conditions:

(i) We allow only pole and line, rod and reel, hand line, dip net, and cast net for fishing. We prohibit the use of crab traps or pots for crabbing.

(ii) Anglers must attend all fishing lines, crabbing equipment, and other fishing devices at all times.

(iii) Inside the refuge boundary on San Martin Lake, we allow bank and wade fishing within a designated area, which may be accessed only on foot.

* * * * *

SUBCHAPTER E—MANAGEMENT OF FISHERIES CONSERVATION AREAS

PART 71—HUNTING AND SPORT FISHING ON NATIONAL FISH HATCHERIES

16. The authority citation for part 71 continues to read as follows:

Authority: Sec. 4, Pub. L. 73-121, 48 Stat. 402, as amended; sec. 4, Pub. L. 87-714, 76 Stat. 654; 5 U.S.C. 301; 16 U.S.C. 460k, 664, 668dd, 1534.

17. Amend § 71.12 by:

a. Redesignating paragraphs (o) through (s) as paragraphs (p) through (t), respectively; and

b. Adding new paragraph (o).

The addition reads as follows:

§ 71.12 National fish hatcheries open for sport fishing.

* * * * *

(o) North Attleboro National Fish Hatchery. We allow sport fishing on designated areas of the hatchery.

* * * * *

Maureen Foster,
Chief of Staff, Exercising the Delegated Authority of the Assistant Secretary for Fish and Wildlife and Parks, Department of the Interior.

[FR Doc. 2025-08621 Filed 5-14-25; 8:45 am]

BILLING CODE 4333-15-P